NUCLEAR REGULATORY COMMISSION

10 CFR Chapter I

[NRC-2023-0058]

Required Assessment of U.S. Department of Energy Laboratories by Licensees, Applicants, and Suppliers To Verify the Effective Implementation of Their Quality Assurance Programs

AGENCY: Nuclear Regulatory Commission.

ACTION: Regulatory Issue Summary; issuance.

SUMMARY: The U.S. Nuclear Regulatory Commission (NRC) is issuing Regulatory Issue Summary (RIS) 2024-02, “Required Assessment of U.S. Department of Energy Laboratories by Licensees, Applicants, and Suppliers to Verify the Effective Implementation of Their Quality Assurance Programs.” RIS 2024-02 clarifies the agency's regulatory position regarding the required assessment of U.S. Department of Energy national laboratories by licensees, applicants, and vendors to verify the effective implementation of the laboratories' quality assurance programs.

DATES: RIS 2024-02 is available as of July 8, 2024.

ADDRESSES: Please refer to NRC-2023-0058 when contacting the NRC about the availability of information regarding this document. You may obtain publicly available information related to this document using any of the following methods:

• Federal Rulemaking Website: Go to https://www.regulations.gov and search for Docket ID NRC-2023-0058. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• NRC's Public Website: This RIS is also available on the NRC's public website at https://www.nrc.gov/reading-rm/doc-collections/gen-comm/reg-issues (select 2024, scroll to Document Number RIS-24-02, and select the date 06/05/2024).

FOR FURTHER INFORMATION CONTACT: Phyllis Clark, Office of Nuclear Reactor Regulation, U.S. Nuclear Regulatory Commission, Washington, DC 20555-0001, telephone: 301-415-6447, email: Phyllis.Clark@nrc.gov.

SUPPLEMENTARY INFORMATION: The NRC published a notice of opportunity for public comment on this RIS in the Federal Register on October 6, 2023 (88 FR 69555). The agency did not receive any comments. RIS 2024-02, “Required Assessment of U.S. Department of Energy Laboratories by Licensees, Applicants, and Suppliers to Verify the Effective Implementation of Their Quality Assurance Programs” is available in ADAMS under Accession No. ML23342A179.

This RIS is a rule as defined in the Congressional Review Act (5 U.S.C. 801-808). However, the Office of Management and Budget has not found it to be a major rule as defined in the Congressional Review Act.

As noted in the Federal Register on May 8, 2018 (83 FR 20858), this document (like other draft and final Regulatory Issue Summaries) is being published in the Rules section of the Federal Register to comply with publication requirements under chapter I of title 1 of the Code of Federal Regulations.

Dated: July 1, 2024.
For the Nuclear Regulatory Commission.
Lisa Regner,
Chief, Generic Communications and Operating Experience Branch, Division of Reactor Oversight, Office of Nuclear Reactor Regulation.

[FR Doc. 2024-14796 Filed 7-5-24; 8:45 am]

BILLING CODE 7590-01-P